DEPARTMENT OF THE INTERIOR

Fish and Wildlife Service

[FWS-R3-ES-2012-N270; FXES11130300000F3-134-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before December 21, 2012.

ADDRESSES: Send written comments by U.S. mail to the Regional Director, Attn: Lisa Mandell, U.S. Fish and Wildlife Service, Ecological Services, 5600 American Blvd. West, Suite 990, Bloomington, MN 55437-1458; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE38856A

Applicant: Skelly & Loy, Inc., Harrisburg, PA.

The applicant requests a permit renewal to take (capture and release) the Indiana bats (Myotis sodalis), gray bat (Myotis grisescens), and Virginia big-eared bat (Corynorhinus townsendii virginianus) throughout the ranges of the species. Proposed activities are for the enhancement of survival of the species in the wild.

Permit Application Number: TE89557A

Applicant: URS Corporation, Cleveland, OH.

The applicant requests a permit to take (capture and release) the following endangered mussel species: Clubshell (Pleurobema clava), sheepnose (Plethobasus cyphyus), spectaclecase (Cumberlandia monodonta), fanshell (Cyprogenia stegaria), snuffbox (Epioblasma triquetra), Higgins' eye pearlymussel (Lampsilis higginsii), fat pocketbook (Potamilus capax), pink mucket pearlymussel (Lampsilis abrupta), and rayed bean (Villosa fabalis). Proposed activities would occur throughout the States of Illinois, Indiana, Iowa, Michigan, Minnesota, Missouri, Ohio, and Wisconsin and include presence/absence surveys to enhance the recovery and survival of the species in the wild.

Permit Application Number: TE89559A

Applicant: URS Corporation, Cleveland, OH.

The applicant requests a permit to take (capture and release) the Indiana bat throughout Illinois, Indiana, Iowa, Michigan, Missouri, Ohio, and Wisconsin. Proposed activities are for the documentation of presence/probable absence of the species and documentation of habitat use to enhance the recovery and survival of the species in the wild.

Permit Application Number: TE105320

Applicant: Tragus Environmental Consulting, Inc., Akron, OH.

The applicant requests a permit renewal to take (capture and release) Indiana bats and gray bats throughout the ranges of the species. Proposed activities are for the enhancement of recovery and survival of the species in the wild.

Permit Application Number: TE206781

Applicant: Ecological Specialists, Inc., O'Fallon, MO.

The applicant requests a permit renewal, with amendment, to take (capture and release; capture and relocate) endangered mussels throughout the States of Arkansas, Iowa, Illinois, Indiana, Kentucky, Maryland, Michigan, Minnesota, Missouri, Nebraska, New York, Pennsylvania, Oklahoma, Ohio, South Dakota, Tennessee, Virginia, Wisconsin, and West Virginia. The following mussel species are included: Clubshell, dwarf wedgemussel (Alasmidonta heterodon), fanshell, fat pocketbook, Higgins' eye pearlymussel, northern riffleshell (Epioblasma torulosa rangiana), orange-foot pimpleback (Plethobasus cooperianus), Ouachita rock pocketbook (Arkansia wheeleri), pink mucket pearlymussel, rayed bean, ring pink (Obovaria retusa), rough pigtoe (Pleurobema plenum), scaleshell (Leptodea leptodon), winged mapleleaf (Quadrula fragosa), spectaclecase, spectacled pocketbook (Lampsilis streckeri), sheepnose, and snuffbox. Proposed activities are for the recovery and enhancement of survival of the species in the wild.

Permit Application Number: TE07730A

Applicant: Redwing Ecological Services, Inc.

The applicant requests a permit renewal, with amendment, to take (capture and release) the following listed species throughout their ranges, within the States of Kentucky, Illinois, Indiana, Iowa, Minnesota, Missouri, Ohio, Pennsylvania, Tennessee, West Virginia, and Wisconsin: Palezone shiner (Notropis albizonatus), blackside dace (Phoxinus cumberlandensis), relict darter (Etheostoma chienense), tuxedo darter (Etheostoma lemniscatum), cumberland darter (Etheostoma susanae), scioto madtom (Noturus trautmani), pallid sturgeon (Scaphirrhynchus albus), cumberland elktoe (Alasmidonta atropurpurea), fanshell, dromedary pearlymussel (Dromus dromas), cumberlandian combshell (Epioblasma brevidens), oyster mussel (Epioblasma capsaeformis), tan riffleshell (Epioblasma florentina walkeri), catspaw (Epioblasma obliquata obliquata), White catspaw (Epioblasma obliquata perobliqua), northern riffleshell, tubercled blossom (Epioblasma torulosa torulosa), cracking pearlymussel (Hemistena lata), pink mucket, Higgins' eye pearlymussel, scaleshell, ring pink, littlewing pearlymussel (Pegias fabula), white wartyback (Plethobasus cicatricosus), orangefoot pimpleback, clubshell, rough pigtoe, fat pocketbook, winged mapleleaf, cumberland bean (Villosa trabalis), spectaclecase, snuffbox, sheepnose, and rayed bean. Proposed activities are for the recovery and enhancement of survival of the species in the wild.

Permit Application Number: TE89558A

Applicant: Shannon E. Romeling, Valdez, NM.

The applicant requests a permit to take (capture and release) the Indiana bat, gray bat, Virginia big-eared bat, and Ozark big-eared bat (Corynorhinus townsendii ingens) throughout the ranges of the species. Proposed activities are for the documentation of presence/probable absence of the species and documentation of habitat use to enhance the recovery and survival of the species in the wild.

Permit Application Number: TE06809A

Applicant: U.S. Forest Service, Northern Research Station (Dr. Sybill Amelon, P.I.), Columbia, MO.

The applicant requests a permit amendment to take (collect) gray bats in Missouri for scientific purposes in the interest of recovery of the species through study of white-nose syndrome in the species.

Permit Application Number: TE38785A

Applicant: Merrill B. Tawse, Mansfield, OH.

The applicant requests a permit renewal to take (capture and release) Indiana bats throughout the range of the species. Proposed activities are for the documentation of presence/probable absence of the species and documentation of habitat use to enhance the recovery and survival of the species in the wild.

Permit Application Number: TE31310A

Applicant: Minnesota Pollution Control Agency, St. Paul, MN.

The applicant requests a permit renewal to take (capture and release) the Topeka shiner (Notropis topeka) within the State of Minnesota. Proposed activities are for the purpose of population monitoring to enhance the recovery and survival of the species in the wild.

Permit Application Number: TE206783

Applicant: Marlo M. Perdicas, Marshallville, OH.

The applicant requests a permit renewal to take (capture and release) Indiana bats and gray bats throughout the ranges of the species. Proposed activities are for the documentation of presence/probable absence of the species and documentation of habitat use to enhance the recovery and survival of the species in the wild.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: November 8, 2012.
Lynn M. Lewis,
Assistant Regional Director, Ecological Services, Midwest Region.

[FR Doc. 2012-28300 Filed 11-20-12; 8:45 am]

BILLING CODE 4310-55-P